SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before April 15, 2014.

ADDRESSES: Send all comments to Justin Alston, Financial Analyst, Office of Financial Assistance, Small Business Administration, 409 3rd Street, 8th Floor, Washington, DC 20416.

FOR FURTHER INFORMATION CONTACT: Justin Alston, Financial Analyst, 202-401-8234, Justin.alston@sba.gov, or Curtis B. Rich, Management Analyst, 202-205-7030, curtis.rich@sba.gov.

SUPPLEMENTARY INFORMATION: The purpose of this data collection is to monitor loan payment information on SBA loan portfolios arising from the Immediate Disaster Assistance Program. This exercise will involve monthly updates on the payments received by lenders from small businesses that have received funding through this guaranty program. The Agency looks to better manage the program's effectiveness by having lenders provide this form of periodic reporting to SBA.

Summary of Information Collection

Title: Guaranteed Disaster Assistance Program.

Description of Respondents: Lenders who received funding through this guaranty program.

Total Estimated Annual Responses: 5,604.

Total Estimated Annual Hour Burden: 467.

Curtis B. Rich,
Management Analyst.

[FR Doc. 2014-03321 Filed 2-13-14; 8:45 am]

BILLING CODE P